DEPARTMENT OF TRANSPORTATION

Federal Railroad Administration

49 CFR Parts 229 and 238

[Docket Nos. FRA-2009-0094 and FR-2009-0095, Notice No. 4]

RIN 2130-AC16

Locomotive Safety Standards; Correction

AGENCY: Federal Railroad Administration (FRA), DOT.

ACTION: Final rule; correction.

SUMMARY: FRA is notifying the public that the correct docket number for the Locomotive Safety Standards final rule is FRA-2009-0094. The final rule issued on April 9, 2012, incorrectly identified docket number FR-2009-0095 as the public docket for this rulemaking proceeding. FRA is requesting that all petitions for reconsideration and all comments on any petitions for reconsideration related to this proceeding be submitted to FRA-2009-0094.

DATES: The deadline for petitions for reconsideration of the final rule published April 9, 2012, at 77 FR 21312, remains June 8, 2012. The deadline for comments on such petitions remains July 23, 2012.

ADDRESSES: Petitions for reconsideration or comments on such petitions: Any petitions and any comments to petitions related to Docket No. FRA-2009-0094, may be submitted by any of the following methods: Web Site: Federal eRulemaking Portal, http://www.regulations.gov. Follow the online instructions for submitting comments.

• Fax: 202-493-2251.

• Mail: Docket Management Facility, U.S. Department of Transportation, 1200 New Jersey Avenue SE, W12-140, Washington, DC 20590.

• Hand Delivery: Room W12-140 on the Ground level of the West Building, 1200 New Jersey Avenue SE., W12-140, Washington, DC between 9 a.m. and 5 p.m. Monday through Friday, except Federal holidays.

• Federal eRulemaking Portal: Go to http://www.regulations.gov. Follow the online instructions for submitting comments.

Instructions: All submissions must include the agency name and docket number or Regulatory Identification Number (RIN) for this rulemaking. Note that all comments received will be posted without change to http://www.regulation.gov including any personal information. FRA wishes to inform all potential petitioners that anyone is able to search the electronic form of all comments received into any agency docket by the name of the individual submitting the petition (or signing the petition, if submitted on behalf of an association, business, labor union, etc.). You may review DOT's complete Privacy Act Statement in the Federal Register published on April 11, 2000 (Volume 65, Number 70; Pages 19477-78) or you may visit http://dms.dot.gov.

Docket: For access to the docket to read background documents or comments received, go to http://www.regulations.gov at any time or to Room W12-140 on the Ground level of the West Building, 1200 New Jersey Avenue SE., Washington, DC between 9 a.m. and 5 p.m. Monday through Friday, except Federal holidays.

FOR FURTHER INFORMATION CONTACT: Michael Masci, Trial Attorney, Office of Chief Counsel, FRA, 1200 New Jersey Avenue SE., Washington, DC (telephone 202-493-6037).

SUPPLEMENTARY INFORMATION: On April 9, 2012, FRA published a final rule related to locomotive safety standards. See 77 FR 21312. The final rule established a public docket to receive petitions for reconsideration in response to FRA's final rule related to locomotive safety standards and comments on such petitions. That final rule mistakenly lists FR-2009-0095 (“incorrect docket”) as the docket number for the final rule. The correct docket number for this proceeding is FRA-2009-94 (“correct docket”). FRA requests that petitions for reconsideration related to the final rule and comments on such petitions be submitted to the correct docket.

Petitions for reconsideration and comments on such petitions submitted to the incorrect docket will be fully considered as part of the locomotive safety standards rulemaking. Because the incorrect docket is listed in the April 9, 2012, Federal Register document issuing the final rule, petitions for reconsideration and comments on such petitions submitted to the incorrect docket will remain valid. FRA will transfer all comments and information that are received in the incorrect docket to the correct docket. As such, interested parties that wish to read petitions for reconsideration related to the final rule and comments on such petitions should access docket FRA-2009-0094 to locate them.

Issued in Washington, DC, on April 12, 2012.
Ron Hynes,
Acting Deputy Associate Administrator for Regulatory and Legislative Operations.

[FR Doc. 2012-9353 Filed 4-17-12; 8:45 am]

BILLING CODE 4910-06-P